DEPARTMENT OF THE INTERIOR

Bureau of Reclamation

[DOI-2022-0013; RR03042000.23XR0680A1.RX.18786000.1501100]

Privacy Act of 1974; System of Records

AGENCY: Bureau of Reclamation, Interior.

ACTION: Rescindment of a system of records notice.

SUMMARY: The Department of the Interior (DOI) is issuing a public notice of its intent to rescind the Bureau of Reclamation (Reclamation) Privacy Act system of records notice, INTERIOR/WBR-48, Lower Colorado River Well Inventory, from its existing inventory. This system of records was maintained by Reclamation and is no longer required as the records are neither stored nor retrieved using an individual's personal identifier. All well inventory records are stored and retrieved by either site identification data or well number. As such, these records do not meet the statutory definition of a system of records under the Privacy Act.

DATES: These changes take effect on December 13, 2022.

ADDRESSES: You may send comments identified by docket number [DOI-2022-0013] by any of the following methods:

• Federal eRulemaking Portal: https://www.regulations.gov. Follow the instructions for sending comments.

• Email: DOI_Privacy@ios.doi.gov. Include docket number [DOI-2022-0013] in the subject line of the message.

• U.S. Mail or Hand-Delivery: Teri Barnett, Departmental Privacy Officer, U.S. Department of the Interior, 1849 C Street NW, Room 7112, Washington, DC 20240.

Instructions: All submissions received must include the agency name and docket number [DOI-2022-0013]. All comments received will be posted without change to https://www.regulations.gov, including any personal information provided.

Docket: For access to the docket to read background documents or comments received, go to https://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: Regina Magno, Associate Privacy Officer, Bureau of Reclamation, P.O. Box 25007, Denver, CO 80225, privacy@usbr.gov or (303) 445-3326.

SUPPLEMENTARY INFORMATION: Pursuant to the provisions of the Privacy Act of 1974, as amended, 5 U.S.C. 552a, Reclamation is rescinding the INTERIOR/WBR-48, Lower Colorado River Well Inventory, system of records notice from its inventory. An assessment of the well inventory records by the Reclamation Associate Privacy Officer revealed that the records contained therein are not stored, maintained or retrieved by use of an individual's personal identifier. Reclamation utilizes these records to support the annual compilation and publication of records of consumptive use of mainstream Colorado River water. The records include contact information for individuals or groups that own or have physical control of wells or access sites (site owners) where Reclamation collects groundwater data. Site owner contact information stored in these records may include name, address, phone number and email address, when provided. These records are saved and retrieved by use of the site identification data or well number; records cannot be retrieved by use of the site owner's personal information. Therefore, these records do not meet the statutory definition of a system of records under the Privacy Act of 1974. Rescindment of INTERIOR/WBR-48, Lower Colorado River Well Inventory, will ensure statutory compliance with the Privacy Act of 1974, as amended, and Office of Management and Budget Circular A-108, Federal Agency Responsibilities for Review, Reporting, and Publication under the Privacy Act.

Rescinding the INTERIOR/WBR-48, Lower Colorado River Well Inventory, system of records notice will have no adverse impacts on individual privacy of the site and well owners. Controls are in place to ensure contact information is only accessible to authorized Reclamation personnel; it is not published or released to the public. The affected records will continue to be maintained under the applicable records schedules as approved by the National Archives and Records Administration. This rescindment will also promote the overall streamlining and management of DOI Privacy Act systems of records.

SYSTEM NAME AND NUMBER:

INTERIOR/WBR-48, Lower Colorado River Well Inventory.

HISTORY:

64 FR 29874 (June 3, 1999); modification published at 73 FR 20949 (April 17, 2008) and 86 FR 50156 (September 7, 2021).

Teri Barnett,
Departmental Privacy Officer, Department of the Interior.

[FR Doc. 2022-27030 Filed 12-12-22; 8:45 am]

BILLING CODE 4332-90-P